ENVIRONMENTAL PROTECTION AGENCY

[FRL-9906-54-Region-8]

Proposed CERCLA Administrative Settlement Agreement for a Bona Fide Prospective Purchaser at the Moline Street PCB Site Located in Aurora, Adams County, Colorado

AGENCY: Environmental Protection Agency.

ACTION: Notice; Request for public comment.

SUMMARY: In accordance with section 122 (h)(l) of the Comprehensive Environmental Response, Compensation and Liability Act (CERCLA), 42 U.S.C. 9622(h)(l), notice is hereby given of the proposed Administrative Settlement Agreement for Removal Action by Bona Fide Prospective Purchaser at the Moline Street PCB Site located in Aurora, Adams County, Colorado (Site). The proposed Settlement Agreement is with Hi-Tec Plastics, Incorporated (hereinafter referred to as “Purchaser”).The Settlement Agreement requires the Purchaser to perform a portion of the removal action at the property located at 3555 Moline Street, Aurora, Colorado 80010. The remainder of the removal action selected will be performed by the Dow Chemical Company and is addressed in a separate administrative order on consent. The Settlement Agreement includes an EPA covenant not to sue the Purchaser pursuant to sections 106 and 107(a) of CERCLA, 42 U.S.C. 9606 and 9607(a) for existing contamination at the Site. For thirty (30) days following the publication of this notice, the United States will receive written comments relating to the Settlement Agreement. The United States will consider all comments received and may modify or withdraw its consent to the Settlement Agreement if comments received disclose facts or considerations which indicate that the Settlement Agreement is inappropriate, improper or inadequate. The United States' response to any comments received will be available for public inspection at the EPA Region 8 Records Center located at 1595 Wynkoop Street, Denver, Colorado 80202-1129, during normal business hours.

DATES: Comments must be submitted on or before March 14, 2014.

ADDRESSES: The proposed Settlement Agreement is also available for public inspection at the EPA Region 8 Records Center located at 1595 Wynkoop Street, Denver, Colorado 80202-1129, during normal business hours. A copy of the proposed settlement may be obtained from Scott Wilder, Enforcement Specialist, 8ENF-RC, U.S. EPA, 1595 Wynkoop Street, Denver, CO 80202-1129. Scott Wilder can be reached at (206) 553-6693. Comments should reference the Moline Street PCB Site, and should be addressed to Scott Wilder at the address given above.

FOR FURTHER INFORMATION CONTACT: Scott Wilder, 8ENF-RC, U.S. EPA, Technical Enforcement Program, 1595 Wynkoop Street, Denver, Colorado 80202-1129. Telephone: (206) 553-6693.

Dated: January 29, 2014.
Eddie A. Sierra,
Acting Assistant Regional Administrator, U.S. Environmental Protection Agency, Region 8.

[FR Doc. 2014-03076 Filed 2-11-14; 8:45 am]

BILLING CODE 6560-50-P